DEPARTMENT OF THE INTERIOR

National Park Service

Notice of Inventory Completion: Colorado Historical Society, Denver, CO

AGENCY: National Park Service, Interior.

ACTION: Notice.

SUMMARY: Pursuant to the Native American Graves Protection and Repatriation Act (NAGPRA), the Colorado Historical Society determined that the physical remains of 361 individuals of Native American ancestry and 345 associated funerary objects in the museum's collections, described below in Information about cultural items, are culturally affiliated with the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta del Sur Pueblo of Texas; and Zuni Tribe of the Zuni Reservation, New Mexico.

The National Park Service publishes this notice on behalf of the museum as part of the National Park Service's administrative responsibilities under NAGPRA. The museum is solely responsible for information and determinations stated in this notice. The National Park Service is not responsible for the museum's determinations.

Information about NAGPRA is available online at www.cr.nps.gov/nagpra.

DATES: Repatriation of the cultural items to the Indian tribes listed above in Summary may proceed after December 23, 2004, if no additional claimants come forward. Representatives of any other Indian tribe that believes itself to be culturally affiliated with the cultural items should contact the museum before December 23, 2004.

SUPPLEMENTARY INFORMATION:

Authority. 25 U.S.C. 3001 et seq. and 43 CFR Part 10.

Contact.Contact Georgianna Contiguglia, President/SHPO/CPO, Colorado Historical Society, 1300 Broadway, Denver, CO 80203, telephone (303) 866-3355, regarding determinations stated in this notice or to claim the cultural items described in this notice.

Consultation.The museum identified the cultural items and cultural affiliation of the cultural items in consultation with representatives of the Apache Tribe of Oklahoma; Fort McDowell Mohave-Apache Indian Community of the Fort McDowell Indian Reservation, Arizona; Fort Sill Apache Tribe of Oklahoma; Gila River Indian Community of the Gila River Indian Reservation, Arizona; Hopi Tribe of Arizona; Hualapai Indian Tribe of the Hualapai Indian Reservation, Arizona; Jicarilla Apache Nation, New Mexico; Navajo Nation, Arizona, New Mexico & Utah; Paiute Indian Tribe of Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Salt River Pima-Maricopa Indian Community of the Salt River Reservation, Arizona; San Carlos Apache Tribe of the San Carlos Reservation, Arizona; Southern Ute Indian Tribe of the Southern Ute Reservation, Colorado; Tonto Apache Tribe of Arizona; Ute Indian Tribe of the Uintah & Ouray Reservation, Utah; Ute Mountain Tribe of the Ute Mountain Reservation, Colorado, New Mexico & Utah; White Mountain Apache Tribe of the Fort Apache Reservation, Arizona; Yavapai-Apache Nation of the Camp Verde Indian Reservation, Arizona; Ysleta del Sur Pueblo of Texas; and Zuni Tribe of the Zuni Reservation, New Mexico.

Information about cultural items. Prior to 1882, human remains representing a minimum of one individual were removed by Charles R. Weise and Charles Mayer from an unidentified site near Aztec, San Juan County, NM. The human remains (O.1727.1) and associated funerary object (O.499.1) were transferred to the Colorado Historical Society by Dr. D.S. Griffith in 1882. No known individual was identified. The one associated funerary object is a black-on-white ceramic bowl. Cranial morphology is consistent with physical features common to Ancient Puebloan populations. Cultural items associated with the burials are diagnostic of Ancient Puebloan technological traditions. Ancient Puebloan occupation of San Juan County generally dates between approximately 1000 B.C. and A.D. 1300.

In 1887 or 1888, human remains representing a minimum of one individual were removed by Al Wetherill and C.C. Mason from the Mesa Verde area, Montezuma County, CO. The individual was then sold by B.K. Wetherill to Mr. and Mrs. James A. Chain, who later donated the individual to the Colorado Historical Society in approximately 1893. The human remains were accessioned by the Colorado Historical Society in 1921 (O.675.1). No known individual was identified. No associated funerary objects are present. While specific provenience for this individual is unknown, the Wetherills and Mason excavated numerous sites in the Mesa Verde region. Cranial morphology is consistent with physical features common to Ancient Puebloan populations. Ancient Puebloan occupation of the Mesa Verde area generally dates from approximately 1000 B.C. to A.D. 1300.

In 1888, human remains representing a minimum of 15 individuals were removed by Richard Wetherill, Al Wetherill, and Charlie Mason from Cliff House, also known as Cliff Palace (site 5MV.625.1), Montezuma County, CO. The human remains (O.668.1, O.670.1, O.677.1, O.696.1, O.702.1, O.703.1, O.707.1, O.710.1, O.711.1, O.712.1, O.716.1, O.719.1, O.729.1, O.731.1, O.734.1) and associated funerary objects (O.188.1, O.1741.2) were initially sold to Charles McLoyd, who sold the collection to the Colorado Historical Society in 1890. No known individuals were identified. The two associated funerary objects are black-on-white ceramic bowls. Cranial morphology is consistent with physical features common to Ancient Puebloan populations. Cultural items associated with the burials are diagnostic of Ancient Puebloan technological traditions. Occupation of Cliff House dates from approximately A.D. 1250 to 1280.

Prior to 1890, human remains representing a minimum of two individuals were removed by Richard Wetherill, Al Wetherill, and Charlie Mason from unidentified sites in the Mesa Verde area, Montezuma County, CO. The human remains (O.701.1, O.2249.1) were initially sold to Charles McLoyd, who sold the collection to the Colorado Historical Society in 1890. No known individuals were identified. No associated funerary objects are present. Cranial morphology is consistent with physical features common to Ancient Puebloan populations. Ancient Puebloan occupation of the Mesa Verde area dates from approximately 1000 B.C. to A.D. 1300.

Prior to 1890, human remains representing a minimum of two individuals were removed by Richard Wetherill, Al Wetherill and/or Charlie Mason from the Mesa Verde area, Montezuma County, CO. The Wetherills excavated numerous sites in the Mesa Verde area, the material from which they sold to Charles McLoyd, who in turn sold the collection to the Colorado Historical Society in 1890 (O.695.1, O.672.1). No known individuals were identified. No associated funerary objects are present. Cranial morphology is consistent with physical features common to Ancient Puebloan populations. Ancient Puebloan occupation of the Mesa Verde area generally dates from approximately 1000 B.C. to A.D. 1300.

Prior to 1892, human remains representing a minimum of one individual were removed by either Arthur Wilmarth or Al and Richard Wetherill from a site in Johnson Canyon, Montezuma County, CO. The human remains (O.678.1) were accessioned by the Colorado Historical Society in 1892. No known individuals were identified. No associated funerary objects are present. Cranial morphology is consistent with physical features common to Ancient Puebloan populations. Ancient Puebloan occupation of the Mesa Verde area generally dates from approximately 1000 B.C. to A.D. 1300.

Prior to 1892, human remains representing a minimum of one individual were removed by Richard Wetherill, Al Wetherill, and Charlie Mason from a site in “Navajo [Canyon]” in the Mesa Verde area, Montezuma County, CO. The human remains (O.685.1) were initially sold to Charles McLoyd, who sold the collection to the Colorado Historical Society in 1890. No known individuals were identified. No associated funerary objects are present. Cranial morphology is consistent with physical features common to Ancient Puebloan populations. Ancient Puebloan occupation of the Mesa Verde area generally dates from approximately 1000 B.C. to A.D. 1300.

Prior to 1892, human remains representing a minimum of 22 individuals were removed by either Arthur Wilmarth or Al and Richard Wetherill from the Mesa Verde area in Montezuma County, CO. The human remains (O.680.1, O.683.1, O.690.1, O.713.1, O.715.1, O.720.1, O.721.1, O.722.1, O.1731.1, O.1733.2, O.1734.1, O.1735.1, O.1736.1, O.1741.1, O.735.1, O.673.1, O.674.1, O.676.1, O.2252.1, O.2267.1, O.6017.1, UHR.171) were accessioned by the Colorado Historical Society in 1892. The 12 associated funerary objects (O.432.1, O.285.1, O.1733.3, O.1733.2.a, O.1733.1, O.1729.1, O.1736.1.b, O.188.2, O.1741.1.b, O.7405.5A& B, O.935.1) are a black-on-white ceramic mug, two black-on-white ceramic bowls, a black-on-white ceramic pitcher, a cotton shirt, a buckskin shirt, a feather blanket, and three single sandals. The original provenience within the Mesa Verde region from which these human remains were removed is unknown. Arthur Wilmarth, Al and Richard Wetherill and D.W. Ayers excavated numerous sites in the Mesa Verde area (including Tower House, Balcony House, Cliff Palace, Mug House, Mummy House, Step House, and Spruce Tree House) at different times. Items recovered from earlier excavations led by the Wetherills were sold to Charles McLoyd, who sold the collection to the Colorado Historical Society in 1890. Later excavations led by Arthur Wilmarth were funded by the Colorado State Legislature and items from the excavations were displayed at the Columbian Exposition at the Chicago World's Fair in 1893. These items were transferred to the Colorado Historical Society later the same year. Cranial morphology is consistent with physical features common to Ancient Puebloan populations. Ancient Puebloan occupation of the Mesa Verde area generally dates from approximately 1000 B.C. to A.D. 1300.

In 1892, human remains representing a minimum of 30 individuals were removed by Arthur Wilmarth, D.W. Ayers, and Al and/or Richard Wetherill from the Mesa Verde area, Montezuma County, CO. The human remains (O.664.1, O.1738.1, O.1740.1, O.665.1, O.666.1, O.667.1, O.669.1, O.671.1, O.681.1, O.687.1, O.689.1, O.691.1, O.692.1, O.693.1, O.694.1, O.717.1, O.723.1, O.724.1, O.725.1, O.726.1, O.727.1, O.728.1, O.730.1, O.733.1O.1742.1, O.1743.1, O.1744.1, O.1745.1, O.2247.1, O.2250.1) were accessioned by the Colorado Historical Society between 1893 and 1921. No known individuals were identified. The 26 associated funerary objects (O.1738.1.a-d, O.1740.1.a, O.1742.1.a-c, O.214.1, O.293.1, O.383.1, O.1742.2, O.1742.3, O.428.1, O.1743.1.a-b, O.1744.1.a-b, O.1745.1.a, O.1745.2, O.1745.3, O.1745.4, O.1745.5, O.1745.6, O.1745.7, O.1745.8) are a sewn hide, five feather blankets, two fragments of cotton cloth, three scirpus mats, two hide wraps, a grayware kiva jar, a black-on-white bowl, a black-on-white jar, a grayware bowl, a grayware pitcher, a black-on-white mug, four grayware jars, and three hammerstones. Using funds approved by the Colorado State Legislature, Mr. Wilmarth developed an exhibit for the Columbian Exposition at the Chicago World's Fair in 1893 and transferred the artifacts to the Colorado Historical Society in 1893 after the fair. While specific provenience for these individuals is unknown, Mr. Wilmarth, Al and Richard Wetherill, and D.W. Ayers excavated Tower House, Balcony House, Cliff Palace, Mug House, Mummy House, Step House, and Spruce Tree House to assemble the collection. Cranial morphology is consistent with physical features common to Ancient Puebloan populations. Cultural items associated with the burials are diagnostic of Ancient Puebloan technological traditions. Ancient Puebloan occupation of the Mesa Verde area generally dates from approximately 1000 B.C. to A.D. 1300.

Prior to 1893, human remains representing a minimum of 10 individuals were removed by either Arthur Wilmarth or Al and Richard Wetherill from Cliff House (site 5MV.625.1) in Johnson Canyon, Montezuma County, CO. The human remains (O.679.1. O.697.1, O.704.1, O.705.1, O.706.1, O.708.1, O.709.1, O.718.1, O.720.1, O.732.1) were accessioned by the Colorado Historical Society in 1893. No known individuals were identified. No associated funerary objects are present. Mr. Wilmarth, Al and Richard Wetherill, and D.W. Ayers excavated Cliff House at different times. Items recovered from earlier excavations led by the Wetherills were sold to Charles McLoyd, who sold the collection to the Colorado Historical Society in 1890. Later excavations led by Arthur Wilmarth were funded by the Colorado State Legislature and items from the excavations were displayed at the Columbian Exposition at the Chicago World's Fair in 1893. These items were transferred to the Colorado Historical Society later that same year. Cranial morphology is consistent with physical features common to Ancient Puebloan populations. Cultural items associated with the burials are diagnostic of Ancient Puebloan technological traditions. Occupation of Cliff House dates to the Pueblo III period, from approximately A.D. 1250 to 1280.

Prior to 1893, human remains representing a minimum of four individuals were removed by either Arthur Wilmarth or Al and Richard Wetherill from Mummy House (5MV524), Montezuma County, CO. It is likely that these individuals were removed during excavations funded by the Colorado State Legislature and led by Wilmarth, along with the Wetherill brothers and D.W. Ayers, to develop an exhibit for the Columbian Exposition at the Chicago World's Fair in 1893 and the individuals were transferred to the Colorado Historical Society that same year. (O.714.1, O.1732.1, O.1737.1 [1-2]). The six associated funerary objects (O.4903.1.a-f) are a feather blanket, cotton cloth, a piece of cotton twine, a hide, and two wooden objects. Cranial morphology is consistent with physical features common to Ancient Puebloan populations. Cultural items associated with the burials are diagnostic of Ancient Puebloan technological traditions. Ancient Puebloan occupation of the Mesa Verde area generally dates from approximately 1000 B.C. to A.D. 1300.

In the early 1900s, human remains representing a minimum of one individual were removed by the family of Mrs. Margery Stanley from an unknown location in Arizona. The human remains (OAHP Case Number 211) were transferred by the Denver Office of the Medical Examiner to the Colorado Office of Archaeology and Historic Preservation (OAHP, part of the Colorado Historical Society) in 2003. No known individual was identified. No associated funerary objects are present. Cranial morphology is consistent with physical features common to Ancient Puebloan populations. Ancient Puebloan sites in the southwestern United States generally date between approximately 1000 B.C. and A.D. 1300.

In 1904, human remains representing a minimum of one individual were removed by an unknown individual from an unidentified cliff dwelling near Mancos, Montezuma County, CO. The human remains (O.7337.1) were accessioned by the Colorado Historical Society in the 1960s. No known individual was identified. No associated funerary objects are present. Occupation of Ancient Puebloan cliff dwellings in the Mancos area generally date from 1000 B.C. to A.D. 1300.

In 1905, human remains representing a minimum of two individuals were removed by Cecil A. Deane from an Ancient Puebloan architectural site in northwestern New Mexico. Mr. Deane sold the human remains (O.684.1, O.698.1) to the Colorado Historical Society in 1905. No known individuals were identified. No associated funerary objects are present. Cranial morphology is consistent with physical features common to Ancient Puebloan populations. Ancient Puebloan occupation of northwestern New Mexico generally dates from approximately 1000 B.C. to A.D. 1300.

In 1908, human remains representing a minimum of one individual were removed by a collaborative team from the Colorado Historical Society, University of Colorado, and Archaeological Institute of America from Cannonball Ruins (site 5MT338), Montezuma County, CO. The human remains (O.6016.1) were transferred to the Colorado Historical Society by Carl E. Guthe in 1931. No known individual was identified. No associated funerary objects are present. Cranial morphology is consistent with physical features common to Ancient Puebloan populations. Occupation of Cannonball Ruins dates to the Pueblo II/III period, from approximately A.D. 1250 to 1280.

Prior to 1912, human remains representing a minimum of one individual were removed by an unknown individual from an unknown location. The human remains (O.688.1) were accessioned by the Colorado Historical Society in 1912. No known individual was identified. No associated funerary objects are present. Cranial morphology is consistent with physical features common to Ancient Puebloan populations. Ancient Puebloan occupation of the southwestern United States generally dates from approximately 1000 B.C. to A.D. 1300.

In 1928 and 1929, human remains representing a minimum of five individuals were removed by Paul Martin from Little Dog Ruin (site 5MT13403), Montezuma County, CO. The human remains (O.2233.1, O.2234.1, O.2235.1, O.2236.1, O.2239.1) were accessioned by the Colorado Historical Society in 1929. No known individual was identified. The three associated funerary objects (O.2159.1, O.2233.B, O.2233.C) are a black-on-white bowl, a basket fragment, and a pine needle brush. Cranial morphology is consistent with physical features common to Ancient Puebloan populations. The cultural items associated with the burials are diagnostic of Ancient Puebloan technological traditions. Occupation of Little Dog Ruin dates to the Pueblo III period, from approximately A.D. 1140 to 1300.

In 1928, human remains representing a minimum of two individuals were removed by Paul Martin from the Herren site (5MT2516), Montezuma County, CO. The human remains (O.2237.1, O.2238.1) were accessioned by the Colorado Historical Society in 1928. No known individuals were identified. No associated funerary objects are present. Cranial morphology is consistent with physical characteristics common to Ancient Puebloan populations. Occupation of the Herren site dates to the Pueblo II period, from approximately A.D. 1150 to 1250.

In 1928, human remains representing a minimum of one individual were removed by Paul Martin from the Charnel House Tower, Montezuma County, CO. The human remains (O.2239.1) were accessioned by the Colorado Historical Society in 1928. No known individual was identified. No associated funerary objects are present. Cranial morphology is consistent with physical characteristics common to Ancient Puebloan populations. Occupation of Charnel House Tower dates to the Pueblo II period, from approximately A.D. 1175 to 1225.

Prior to 1930, human remains representing a minimum of two individuals were removed by the Colorado Historical Society from an unidentified site in Pagosa/Piedra region, Archuleta County, CO. The human remains (O.2243.1, O.2260.1) were accessioned by the Colorado Historical Society in 1930. No known individuals were identified. No associated funerary objects are present. Cranial morphology is consistent with physical features common to Ancient Puebloan populations. Ancient Puebloan occupation of the Pagosa/Piedra region generally dates from approximately 1000 B.C. to A.D. 1300.

Prior to 1930, human remains representing a minimum of one individual were removed by Frank Hoder from site 5MT13290, Montezuma County, CO. Mr. Hoder willed the human remains to Red Morey, who transferred them to the custody of the U.S. Department of the Interior, Bureau of Land Management, Anasazi Heritage Center in 1992. The Bureau of Land Management transferred the human remains to the Colorado Office of Archaeology and Historic Preservation in 1992 (OAHP Case Number 72). No known individual was identified. No associated funerary objects are present. Cranial morphology is consistent with physical features common to Ancient Puebloan populations. Ancient Puebloan occupation of the Mesa Verde area generally dates from approximately 1000 B.C. to A.D. 1300.

Prior to 1930, human remains representing a minimum of three individuals were removed by Jean A. Jeancon and Frank H.H. Roberts from unidentified sites on Stollsteimer Mesa, Archuleta County, CO. The human remains (O.2240.1, O.2241.1, O.2242.1) were accessioned by the Colorado Historical Society in 1930. No known individuals were identified. One associated funerary object (O.7359.19) is a black-on-white ceramic sherd. Cranial morphology is consistent with physical features common to Ancient Puebloan populations. The cultural item associated with the burials is diagnostic of Ancient Puebloan technological traditions. Ancient Puebloan occupation of Stollsteimer Mesa generally dates from approximately 1000 B.C. to A.D. 1300.

In approximately 1930, human remains representing a minimum of one individual were removed from an unidentified site in Montezuma County, CO. The human remains (OAHP Case Number 64) were acquired by Joyce Barnett, who donated them to the Colorado Historical Society in 1992. No known individuals were identified. No associated funerary objects are present. Cranial morphology is consistent with physical features common to Ancient Puebloan populations. Ancient Puebloan occupation of Montezuma County generally dates from approximately 1000 B.C. to A.D. 1300.

In 1935, human remains representing a minimum of six individuals were removed by Harold Westesen from an unknown location on Dove Creek, Dolores County, CO. Mr. Westesen donated the human remains (O.7359.1, O.7360.1.A, O.7360.2, O.7360.3, O.7360.4.A, O.7360.4.B) to the Montrose Chamber of Commerce, who transferred them to the Colorado Historical Society in 1956. No known individuals were identified. The one associated funerary object (O.7359.19) is a black-on-white ceramic sherd. Cranial morphology is consistent with physical features common to Ancient Puebloan populations. The cultural item associated with the burials is diagnostic of Ancient Puebloan technological traditions. Ancient Puebloan occupation of the Dove Creek area generally dates from approximately 1000 B.C. to A.D. 1300.

In 1940, human remains representing a minimum of one individual were removed by a rancher from an unidentified location in the Shavanno Valley, Montrose County, CO. The human remains (O.7450.1) were donated to the Colorado Historical Society by Mr. R.J. Yarberry and Mr. Frank Hovery in 1964. No known individuals were identified. No associated funerary objects are present. Cranial morphology is consistent with physical features common to Ancient Puebloan populations. Ancient Puebloan occupation of the Montrose County generally dates from approximately 1000 B.C. to A.D. 1300.

Prior to 1944, human remains representing a minimum of 134 individuals were removed by avocational collector James Mellinger from unspecified sites in Colorado, New Mexico, Arizona, or Utah. Mr. Mellinger donated the human remains to the Colorado Historical Society between 1944 and 1951 (CHS accession numbers 78.98.1, 3-10, 13-17, 19, 21-22, 24-35, 38-39, 42-45, 48-51, 53-70, 72-80, 82-96, 98-100; 78.99.2-49; JS.2; O.1728.1). No known individuals were identified. The one associated funerary object (O.1728.3) is a woven mat. Mr. Mellinger is known to have collected primarily in the Four Corners region of the southwestern United States. The morphology of the human remains is consistent with physical features common to Ancient Puebloan populations. The cultural item associated with the burials is diagnostic of Ancient Puebloan technological traditions. Ancient Puebloan occupation of the southwestern Unites States generally dates from approximately 1000 B.C. to A.D. 1300.

In the 1940s and 1950s, human remains representing a minimum of three individuals were removed by unknown persons from unidentified sites near Cortez, Montezuma County, CO. The human remains (OAHP Case Number 170) were sent to the Colorado Office of Archaeology and Historic Preservation in 1999. No known individuals were identified. No associated funerary objects are present. Cranial morphology is consistent with physical features common to Ancient Puebloan populations. Ancient Puebloan sites in Montezuma County generally date between approximately 1000 B.C. and A.D. 1300.

Prior to 1961, human remains representing a minimum of one individual were removed by William Allen from an unidentified site near Durango, La Plata County, CO. The human remains (OAHP Case Number 177) were transferred to the control of the Colorado Office of Archaeology and Historic Preservation in 2000. No known individual was identified. No associated funerary objects are present. Cranial morphology is consistent with physical features common to Ancient Puebloan populations. Ancient Puebloan occupation of southwestern United States generally dates from approximately 1000 B.C. to A.D. 1300.

Prior to 1963, human remains representing a minimum of one individual were removed from an unknown location. The human remains (O.7402.1) were accessioned by the Colorado Historical Society in 1963. No known individual was identified. No associated funerary objects are present. Cranial morphology is consistent with physical features common to Ancient Puebloan populations. Ancient Puebloan occupation of southwestern United States generally dates from approximately 1000 B.C. to A.D. 1300.

In approximately 1965, human remains representing a minimum of one individual were removed by an unknown individual from an unknown location in Montezuma County, CO. The human remains (OAHP Case Number 210) were later transferred to a student, who transferred them to Pueblo Community College, who transferred them to the Colorado Office of Archaeology and Historic Preservation in 2003. No known individual was identified. No associated funerary objects are present. Cranial morphology is consistent with physical features common to Ancient Puebloan populations. Ancient Puebloan sites in Montezuma County generally date between approximately 1000 B.C. to A.D. 1300.

In 1970, human remains representing a minimum of one individual were removed by an unknown person from Dolores County, CO. Robert A. Marra sent the human remains to the Office of Archaeology and Historic Preservation (part of the Colorado Historical Society) in 1992 (OAHP Case Number 74). No known individual was identified. The 78 associated funerary objects are 41 pottery sherds, 1 daub fragment, 30 chipped stone items, 1 shaped sandstone fragment (possibly a pot lid), and 5 fossilized bivalve shells. Pottery types include Mesa Verde, San Juan, and Kayenta whitewares; La Plata black-on-red, La Plata whitewares, La Plata black-on-red, and Mesa Verde graywares. Cranial morphology is consistent with physical features common to Ancient Puebloan populations. The associated funerary objects are diagnostic of Ancient Puebloan technology. Ancient Puebloan occupation of Dolores County generally dates from approximately 1000 B.C to A.D. 1300.

In 1977, human remains representing a minimum of two individuals were removed by the University of Colorado from the Tamarron site (5LP326), La Plata County, CO. The removal was done pursuant to a state permit. The University of Colorado, Boulder transferred the individuals to OAHP in 1991 (OAHP Case Numbers 59 and 60). No known individuals were identified. No associated funerary objects are present. Cranial morphology is consistent with physical features common to Ancient Puebloan populations. Occupation of the Pueblo I component of the Tamarron Site generally dates from approximately A.D. 750 to 900.

Prior to 1980, human remains representing a minimum of two individuals were removed by unknown persons from unknown sites near Cortez, Montezuma County, CO. The human remains (OAHP Case Number 165) were given to the Cortez Public Library, which sent them to the Colorado Office of Archaeology and Historic Preservation in 1999. Cranial morphology is consistent with physical features common to Ancient Puebloan populations. Ancient Puebloan sites around Cortez generally date between approximately A.D. 400 and 1300.

Prior to 1981, human remains representing a minimum of 10 individuals were identified during a collections inventory at the Colorado Historical Society conducted by James Hummert. The human remains (UHR.3, 5, 56, 57, 104, 157, 175, 176, 183, O.663.1) were accessioned by the Colorado Historical Society in 1981. No known individuals were identified. No associated funerary objects are present. Cranial morphology is consistent with physical features common to Ancient Puebloan populations. Ancient Puebloan occupation of southwestern United States generally dates from approximately 1000 B.C. to A.D. 1300.

Prior to 1990, human remains representing a minimum of one individual were removed by an unknown person from site Montezuma County, CO. Peggy Bullard initially gave the human remains to the U.S. Department of the Interior, Bureau of Land Management, Anasazi Heritage Center, which subsequently transferred them to the Colorado Office of Archaeology and Historic Preservation in 1991 (OAHP Case Number 33). No known individual was identified. No associated funerary objects are present. Cranial morphology is consistent with physical features common to Ancient Puebloan populations. The remains are estimated to date to the Pueblo I-III periods, from approximately A.D. 750 to 1300.

Prior to 1990, human remains human remains representing a minimum of one individual were removed by J. Dean Larson from Hartman Draw, Montezuma County, CO. The human remains (OAHP Case Number 76) were transferred to the U.S. Department of the Interior, Bureau of Land Management, Anasazi Heritage Center in 1990, and were later transferred to the Colorado Office of Archaeology and Historic Preservation in 1993. No known individual was identified. No associated funerary objects are present. Cranial morphology is consistent with physical features common to Ancient Puebloan populations. Sites in this locality date from approximately A.D. 400 to 1300.

In 1991, human remains representing a minimum of one individual were removed by Complete Archaeological Service's Associates from site 5MT9105, Montezuma County, CO. The human remains (OAHP Case Number 28) were initially transferred to the U.S. Department of Interior, Bureau of Reclamation, which subsequently transferred them to the Colorado Office of Archaeology and Historic Preservation in 1993. At the time of removal, site 5MT9105 was located on private land. No known individual was identified. No associated funerary objects are present. Cranial morphology is consistent with physical features common to Ancient Puebloan populations. Occupation of site 5MT9105 dates to the Basketmaker III period, from approximately A.D. 500 to 750.

In 1991, human remains representing a minimum of two individuals were removed by vandals from Bob Hampton Ruin (site 5DL859), Dolores County, CO. The human remains (OAHP Case Number 32) were transferred by the Dolores County Sheriff to the Colorado Office of Archaeology and Historic Preservation in 1992. No known individuals were identified. No associated funerary objects are present. Cranial morphology is consistent with physical features common to Ancient Puebloan populations. Occupation of site 5DL859 dates to the Pueblo I-III periods from approximately A.D. 750 to 1300.

In 1991, human remains representing a minimum of two individuals were removed by OAHP staff from site 5LP2740, La Plata County, CO. The removal was done pursuant to a state permit (OAHP Case Number 36). No known individuals were identified. The 21 associated funerary objects are 17 lithic flakes and 4 plain grayware sherds. Cranial morphology is consistent with physical features common to Ancient Puebloan populations. The associated funerary objects are diagnostic of Ancient Puebloan technology. Occupation of site 5LP2740 dates to the Basketmaker II/III and Pueblo I-III periods, from approximately 1000 B.C. to A.D. 1300.

In 1991, human remains representing a minimum of two individuals were removed by Complete Archaeological Service's Associated from site 5MT10963, Montezuma County, CO. The human remains (OAHP Case Number 37) were transferred to the Colorado Office of Archaeology and Historic Preservation in 1993. The removal was done pursuant to a state permit. No known individuals were identified. No associated funerary objects are present. Cranial morphology is consistent with physical features common to Ancient Puebloan populations. Occupation of site 5LP2740 dates to the Basketmaker III period, from approximately A.D. 500 to 750.

Prior to 1992, human remains representing a minimum of one individual were removed by the Gullatt family from an unknown location in the Four Corners region of the southwestern United States. The human remains (OAHP Case Number 77) were transferred to the U.S. Department of the Interior, Bureau of Land Management, Anasazi Heritage Center in 1992 and were later transferred to the Colorado Office of Archaeology and Historic Preservation 1993. No known individual was identified. No associated funerary objects are present. Cranial morphology is consistent with physical features common to Ancient Puebloan populations. Ancient Puebloan occupation of southwestern United States generally dates from approximately 1000 B.C. to A.D. 1300.

In 1992, human remains representing a minimum of one individual were removed by Rice Reavis from site 5AA2011, Archuleta County, CO. The human remains (OAHP Case Number 65) were examined by staff at San Juan College and were transferred to the Colorado Office of Archaeology and Historic Preservation in 1992. At the time of removal, site 5AA2011 was located on private land. No known individual was identified. No associated funerary objects are present. Cranial morphology is consistent with physical features common to Ancient Puebloan populations. Occupation of site 5AA2011 dates to the Pueblo I period, from approximately A.D. 750 to 900.

In 1992, the Denver Coroner transferred human remains representing a minimum of one individual to the Denver Museum of Natural History, which in turn transferred them to the Colorado Office of Archaeology and Historic Preservation the same year (OAHP Case Number 67). No known individual was identified. The 19 associated funerary objects are pottery sherds. Pottery types are Mancos graywares, Cortez and Mancos whitewares and plainwares. Cranial morphology is consistent with physical features common to Ancient Puebloan populations. The associated funerary objects are diagnostic of Ancient Puebloan technology dating to the Pueblo I/II period, from approximately A.D. 750 to 1150.

Prior to 1993, human remains representing a minimum of one individual were removed by an unknown individual from site 5MT13292, Montezuma County, CO. The human remains (OAHP Case Number 78) were transferred to Janice Smith Olson, who later transferred them to the Colorado Office of Archaeology and Historic Preservation in 1993. No known individual was identified. No associated funerary objects are present. Cranial morphology is consistent with physical features common to Ancient Puebloan populations. Occupation of site 5MT13292 dates from approximately A.D. 400 to 1300.

Prior to 1993, human remains representing a minimum of one individual were removed by an unknown individual from an unknown site in southwestern Colorado. The human remains (OAHP Case Number 91) were donated to the La Puente Valley Historical Society in California, who sent the human remains to the Colorado Office of Archaeology and Historic Preservation in 1993. No known individual was identified. No associated funerary objects are present. Cranial morphology is consistent with physical features common to Ancient Puebloan populations. Ancient Puebloan sites in southwestern Colorado generally date from approximately 1000 B.C. to A.D. 1300.

In 1993, human remains representing a minimum of six individuals were removed by Southwest Cultural Associates from sites 5MT5168, 5MT9343, 5MT11861, and 5MT7522, Montezuma County, CO. The human remains (OAHP Case Number 88) were transferred to Janice Smith Olson, who later transferred them to the Colorado Office of Archaeology and Historic Preservation in 1993. The removal was done pursuant to a state permit. No known individuals were identified. No associated funerary objects are present. Cranial morphology is consistent with physical features common to Ancient Puebloan populations. Occupation of sites 5MT9168, MT11861, and 5MT9343 dates to the Basketmaker III period, from approximately A.D. 500 to 750. Occupation of 5MT7522 dates from the Basketmaker III to the Pueblo II periods, from approximately A.D. 500 to 1100.

In 1994, human remains representing a minimum of six individuals were removed by Woods Canyon Archaeological Consultants from the Seed Jar site (5MT3892), Montezuma County, CO. The human remains (OAHP Case Number 94) were transferred to the Colorado Office of Archaeology and Historic Preservation in 1996. The removal was done pursuant to a state permit. At the time of removal, site 5MT3892 was located on private land. No known individuals were identified. No associated funerary objects are present. Cranial morphology is consistent with physical features common to Ancient Puebloan populations. Occupation of the Seed Jar site dates to the Pueblo III period, from approximately A.D. 1150 to 1300.

In 1995, human remains representing a minimum of two individuals were removed by Woods Canyon Archaeological Consultants from the Ladle House site (5MT3873), Montezuma County, CO. The human remains (OAHP Case Number 117) were transferred to the Colorado Office of Archaeology and Historic Preservation in 1995. The removal was done pursuant to a state permit. At the time of removal, site 5MT3873 was located on private land. No known individual was identified. No associated funerary objects are present. Cranial morphology is consistent with physical features common to Ancient Puebloan populations. Occupation of the Ladle House site dates to the Pueblo II period, from approximately A.D. 900 to 1150.

In 1995, human remains representing a minimum of two individuals were removed by Fort Lewis College from site 5LP4553, La Plata County, CO. The human remains (OAHP Case Number 110) were transferred to the Colorado Office of Archaeology and Historic Preservation in 1995. The removal was done pursuant to a state permit. No known individual was identified. The 26 associated funerary objects are one stone, one piece of unworked hematite, one obsidian biface, seven Olivella sp. beads, two bone awls, two shell pendants, one biface, and 11 antler or bone gaming pieces. Cranial morphology is consistent with physical features common to Ancient Puebloan populations. Cultural items associated with the burials are diagnostic of Ancient Puebloan technological traditions. Occupation of site 5LP4553 dates to the Basketmaker III period, from approximately A.D. 500 to 750.

In 1995, human remains representing a minimum of three individuals were removed by Fort Lewis College from site 5LP117, La Plata County, CO. The human remains were transferred to the Colorado Office of Archaeology and Historic Preservation in 1995 (OAHP Case Number 112). The removal was done pursuant to a state permit. No known individual was identified. The 16 associated funerary objects are 12 grayware ceramic sherds, one black-on-white sherd, one Fugitive Redware black-on-white sherd, one Fugitive Redware ceramic sherd, and one tubular bone bead. Cranial morphology is consistent with physical features common to Ancient Puebloan populations. Cultural items associated with the burials are diagnostic of Ancient Puebloan technological traditions. Occupation of site 5LP117 dates to the Basketmaker II /III, from approximately 1000 B.C. to A.D. 750.

In 1997, human remains representing a minimum of one individual were removed by Centennial Archaeology from site 5LP678, La Plata County, CO. The human remains were transferred to the Colorado Office of Archaeology and Historic Preservation in 2001 (OAHP Case Number 188). No known individual was identified. No associated funerary objects are present. Occupation of site 5LP678 dates to the Basketmaker III and Pueblo I periods, from approximately A.D. 400 to 1100.

In 1997, human remains representing a minimum of one individual were removed by Alpine Archaeological Consultants from site 5LP695, La Plata County, CO. The human remains were transferred to the Colorado Office of Archaeology and Historic Preservation in 2001 (OAHP Case Number 189). No known individual was identified. No associated funerary objects are present. Occupation of site 5LP695 dates to the Basketmaker II and Pueblo I/II periods, from approximately A.D. 100 to 1100.

In 1997, human remains representing a minimum of one individual were removed by Alpine Archaeological Consultants from site 5LP696, La Plata County, CO. The human remains (OAHP Case Number 190) were transferred to the Colorado Office of Archaeology and Historic Preservation in 2001. No known individual was identified. No associated funerary objects are present. Cranial morphology is consistent with physical features common to Ancient Puebloan populations. Occupation of site 5LP696 dates from approximately 1000 B.C. to A.D. 1300

In 1998, human remains representing a minimum of one individual were removed by Alpine Archeological Consultants from site 5LP5084, La Plata County, CO. The human remains (OAHP Case Number 158) were transferred to the Colorado Office of Archaeology and Historic Preservation in 2001. No known individual was identified. No associated funerary objects are present. Cranial morphology is consistent with physical features common to Ancient Puebloan populations. Occupation of site 5LP5084 dates to the Basketmaker III and Pueblo I periods, from approximately A.D 400 to A.D. 1100.

In 1998, human remains representing a minimum of one individual were removed by Alpine Archaeological Consultants from site 5LP2820, La Plata County, CO. The human remains (OAHP Case Number 159) were transferred to the Colorado Office of Archaeology and Historic Preservation in 2001. No known individual was identified. No associated funerary objects are present. Cranial morphology is consistent with physical features common to Ancient Puebloan populations. Occupation of site 5LP2820 dates to the Basketmaker III period, from approximately A.D. 500 to 750.

In 1998, human remains representing a minimum of three individuals were removed by La Plata Archaeological Consultants from site 5LP425, La Plata County, CO. The human remains (OAHP Case Number 139) were transferred to the Colorado Office of Archaeology and Historic Preservation in 1999. The removal was done pursuant to a state permit. No known individual was identified. The one associated funerary object is a grayware sherd. Cranial morphology is consistent with physical features common to Ancient Puebloan populations. The cultural item associated with the burials is diagnostic of Ancient Puebloan technological traditions. Occupation of site 5LP425 dates from approximately 1000 B.C. to A.D. 750.

In 1998, human remains representing a minimum of one individual were removed by the Montezuma County Sheriff's Department from site 5MT13240, Montezuma County, CO. The human remains (OAHP Case Number 140) were transferred to the Colorado Office of Archaeology and Historic Preservation in 1998. No known individual was identified. No associated funerary objects are present. Cranial morphology is consistent with physical features common to Ancient Puebloan populations. Occupation of site 5MT13240 dates from approximately A.D. 750 to 1300.

In 1998, human remains representing a minimum of one individual were removed by Ed Daniels from site 5MT13241, Montezuma County, CO. The human remains (OAHP Case Number 141) were transferred to the Colorado Office of Archaeology and Historic Preservation in 1998. At the time of removal, site 5MT13241 was located on private land. No known individuals were identified. No associated funerary objects are present. Cranial morphology is consistent with physical features common to Ancient Puebloan populations. Occupation of site 5MT13241 dates to the Pueblo II/II period, from approximately A.D. 900 to 1300.

In 1998, human remains representing a minimum of five individuals were found by Lyle Dennison in the trunk of an abandoned vehicle in Montezuma County, CO. The human remains (OAHP Case Number 142) were reported to the Montezuma County Coroner's Office, who transferred the human remains to the Colorado Office of Archaeology and Historic Preservation the same year. No known individuals were identified. The 14 associated funerary objects are seven lithic flakes, four animal bone fragments and three ceramic sherds. Cranial morphology is consistent with physical features common to Ancient Puebloan populations. The cultural items associated with the burials are diagnostic of Ancient Puebloan technological traditions. Ancient Puebloan sites in Montezuma County generally date from approximately A.D. 400 to 1300.

In 1999, human remains representing a minimum of one individual were removed by Woods Canyon Archaeological Consultants from site 5LP379, La Plata County, CO. Excavations of site 5LP379 were conducted pursuant to a state permit. The human remains (OAHP Case Number 160) were transferred to the Colorado Office of Archaeology and Historic Preservation in 2002. No known individual was identified. No associated funerary objects are present. Cranial morphology is consistent with physical features common to Ancient Puebloan populations. Occupation of site 5LP379 dates to the Pueblo I period, from approximately A.D. 750 to 900.

In 1999, human remains representing a minimum of five individuals were removed by Complete Archaeological Service's from Stix and Leaves Pueblo (site 5MT11555), Montezuma County, CO. The human remains (OAHP Case Number 161) were transferred to the Colorado Office of Archaeology and Historic Preservation in 2002. Excavations at Stix and Leaves Pueblo were conducted pursuant to a state permit. At the time of removal, site 5MT11555 was located on private land. No known individuals were identified. No associated funerary objects are present. Cranial morphology is consistent with physical features common to Ancient Puebloan populations. Occupation of Stix and Leaves Pueblo dates to the Pueblo I-II periods, from approximately A.D. 750 to 1300.

Between 1999 and 2002, human remains representing a minimum of 28 individuals were removed by staff from Fort Lewis College from the Dark Mold site (5LP4991), La Plata County, CO. Excavations at the Dark Mold site were conducted pursuant to a state permit. At the time of removal, site 5LP4991 was located on private land. The human remains and associated funerary objects (OAHP Case Number 156) were transferred to the Colorado Office of Archaeology and Historic Preservation in 2002. No known individuals were identified. The 113 associated funerary objects are 84 Olivella beads, four Haliotis pendants, one chlorite schist pipe, one chlorite schist pendant, one bone bead, four bone awls, one mano, one biface, one bone tool, one bone bead, one utilized flake, one lithic core, one lithic tool, one lithic serrated tool, two manos, one lithic core, one lithic copper, one groundstone, one shell, one notched animal rib, and three stone beads. Cranial morphology is consistent with physical features common to Ancient Puebloan populations. Cultural items associated with the burials are diagnostic of Ancient Puebloan technological traditions. Occupation of the Dark Mold dates to the Basketmaker II period, from 1000 B.C. to A.D. 500.

Prior to 2000, human remains representing a minimum of one individual were removed by staff from the University of Colorado from an unspecified site in southwestern Colorado. The human remains (OAHP Case Number 176) were transferred to the Colorado Office of Archaeology and Historic Preservation in 2000. No known individual was identified. No associated funerary objects are present. Cranial morphology is consistent with physical features common to Ancient Puebloan populations. Ancient Puebloan sites in southwestern Colorado generally date between approximately A.D. 400 and 1300.

In 2000, human remains representing a minimum of one individual were removed by staff from Fort Lewis College from site 5LP5980, La Plata County, CO. The human remains (OAHP Case Number 183) were transferred to the Colorado Office of Archaeology and Historic Preservation in 2002. Excavations at site 5LP5980 were conducted pursuant to a state permit. At the time of removal, site 5LP5980 was located on private land. No known individual was identified. The three associated funerary objects are two small gray ceramic pots and one deer scapula hoe. Cranial morphology is consistent with physical features common to Ancient Puebloan populations. Occupation of site 5LP5980 dates to the Basketmaker II/III period from approximately 1500 B.C. to A.D. 750.

In 2003, human remains representing a minimum of one individual were removed by Charles Wheeler from site 5LP7347 on the grounds of Fort Lewis College, La Plata County, CO. The human remains (OAHP Case Number 208) were transferred to the Colorado Office of Archaeology and Historic Preservation in 2003. No known individual was identified. No associated funerary objects are present. Occupation of 5LP7347 dates to the Basketmaker II/III period, from approximately 1500 B.C. to A.D. 750.

On an unknown date, human remains representing a minimum of one individual were removed from an unidentified site in Jefferson County, CO. The human remains (OAHP Case Number 149) were seized by the Arvada Police Department as part of a criminal investigation and subsequently transferred to the Colorado Office of Archaeology and Historic Preservation in 1999. No known individual was identified. No associated funerary objects are present. Cranial morphology is consistent with physical features common to Ancient Puebloan populations. Ancient Puebloan sites in the southwestern United States generally date between approximately 1000 B.C. and A.D. 1300.

On an unknown date, human remains representing a minimum of two individuals were removed by an unknown individual from an unknown site in Montezuma County, CO. The human remains (OAHP Case Number 115) were received by the Colorado Office of Archaeology and Historic Preservation in 1996. An anonymous note accompanying the human remains states that the human remains came from Cow Canyon in Montezuma County, CO. No known individual was identified. No associated funerary objects are present. Cranial morphology is consistent with physical features common to Ancient Puebloan populations. Ancient Puebloan sites in Montezuma County generally date between approximately A.D. 400 and 1300.

On an unknown date, human remains representing a minimum of one individual were removed by an unknown person from a site in Dolores County, CO. Bill Wagner of Dolores, CO, gave the human remains to Mrs. Odom, who subsequently transferred them to the U.S. Department of the Interior, Bureau of Land Management, Anasazi Heritage Center. The Anasazi Heritage Center transferred the human remains to the Colorado Office of Archaeology and Historic Preservation in 1991 (OAHP Case Number 34). At the time of removal, site 5DL1989 was on private land. No known individual was identified. No associated funerary objects are present. Cranial morphology is consistent with physical features common to Ancient Puebloan populations. Ancient Puebloan sites in the southwestern United States generally date between approximately 1000 B.C. and A.D. 1300.

The cultural affiliation of the human remains and associated funerary objects described above with present-day Native American tribes was determined through the use of the following lines of evidence: geographical, kinship, biological, archeological, anthropological, linguistic, oral tradition, historical, and expert opinion. Evidence was gathered from consultations with the Indian tribes listed above in Consultation, physical examination, survey of acquisitional history, review of pertinent archeological, ethnographic, historic, anthropological and linguistic literature, and artifact analysis. Similarities in site architecture and material culture associated with the human remains are consistent with Ancient Puebloan occupation of the southwestern United States from the Basketmaker I period through the Pueblo III period (between approximately 1000 B.C. and A.D. 1300). The archeological literature refers to this widespread cultural tradition as “Anasazi,” “Ancestral Puebloan,” or “Ancient Puebloan.” Cranial modification is common to many Ancient Puebloan remains and is believed to reflect their widespread use of cradleboards to carry infants. Ancient Puebloan ceramic typologies help to identify chronological and geographical technological traditions. After approximately A.D. 1300, climatic changes evidently caused pueblo populations to leave the Four Corners region and resettle in Pueblos along the Rio Grande and in the Pueblos of Acoma, Zuni, and Hopi. Extant oral traditions corroborate dynamic population movements within the region during this time.

Determinations.Under 25 U.S.C. 3003, museum officials have determined that the human remains represent the physical remains of 361 individuals of Native American ancestry. Museum officials determined that the 345 cultural items are reasonably believed to have been placed with or near individual human remains at the time of death or later as part of the death rite or ceremony. Museum officials determined that the human remains and associated funerary objects are culturally affiliated with the Indian tribes listed in Summary.

Notification.The museum is responsible for sending copies of this notice to the consulted Indian tribes listed above in Consultation.

Dated: October 12, 2004
Sherry Hutt,
Manager, National NAGPRA Program.

[FR Doc. 04-25918 Filed 11-22-04; 8:45 am]

BILLING CODE 4312-50-S